DEPARTMENT OF HOMELAND SECURITY

U.S. Immigration and Customs Enforcement

[Docket No. ICEB-2023-0005]

RIN 1653-ZA41

Employment Authorization for South Sudanese F-1 Nonimmigrant Students Experiencing Severe Economic Hardship as a Direct Result of the Current Armed Conflict and Humanitarian Crisis in South Sudan

AGENCY: U.S. Immigration and Customs Enforcement; Department of Homeland Security.

ACTION: Notice.

SUMMARY: This notice announces that the Secretary of Homeland Security (Secretary) is suspending certain regulatory requirements for F-1 nonimmigrant students whose country of citizenship is South Sudan, regardless of country of birth (or individuals having no nationality who last habitually resided in South Sudan), and who are experiencing severe economic hardship as a direct result of the current armed conflict and humanitarian crisis in South Sudan. The Secretary is taking action to provide relief to these South Sudanese students who are in lawful F-1 nonimmigrant students status, so the students may request employment authorization, work an increased number of hours while school is in session, and reduce their course load while continuing to maintain their F-1 nonimmigrant student status. The U.S. Department of Homeland Security (DHS) will deem an F-1 nonimmigrant student granted employment authorization by means of this notice to be engaged in a “full course of study” for the duration of the employment authorization, if the nonimmigrant student satisfies the minimum course load requirement described in this notice.

DATES: This action is effective November 4, 2023, through May 3, 2025.

FOR FURTHER INFORMATION CONTACT: Sharon Snyder, Unit Chief, Policy and Response Unit, Student and Exchange Visitor Program, MS 5600, U.S. Immigration and Customs Enforcement, 500 12th Street SW, Washington, DC 20536-5600; email: sevp@ice.dhs.gov, telephone: (703) 603-3400. This is not a toll-free number. Program information can be found at https://www.ice.gov/sevis/.

SUPPLEMENTARY INFORMATION:

What action is DHS taking under this notice?

The Secretary is exercising authority under 8 CFR 214.2(f)(9) to temporarily suspend the applicability of certain requirements governing on-campus and off-campus employment for F-1 nonimmigrant students whose country of citizenship is South Sudan regardless of country of birth (or individuals having no nationality who last habitually resided in South Sudan), who are present in the United States in lawful F-1 nonimmigrant student status on the date of publication of this notice, and who are experiencing severe economic hardship as a direct result of current armed conflict and humanitarian crisis in South Sudan. The original notice, which suspended certain regulatory requirements for F-1 nonimmigrant students experiencing severe economic hardship as a direct result of the humanitarian crisis at that time is effective from March 3, 2022, through November 3, 2023. See 87 FR 12182 (Mar. 3, 2022). Effective with this publication, suspension of the employment limitations is available through May 3, 2025, for those who are in lawful F-1 nonimmigrant status on the date of publication of this notice. DHS will deem an F-1 nonimmigrant student granted employment authorization through this notice to be engaged in a “full course of study” for the duration of the employment authorization, if the student satisfies the minimum course load set forth in this notice.¹ See 8 CFR 214.2(f)(6)(i)(F).

¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 3, 2025, provided the student satisfies the minimum course load requirements in this notice.

Who is covered by this notice?

This notice applies exclusively to F-1 nonimmigrant students who meet all of the following conditions:

(1) Are a citizen of South Sudan regardless of country of birth (or an individual having no nationality who last habitually resided in South Sudan);

(2) Were lawfully present in the United States on the date of publication of this notice in F-1 nonimmigrant status under section 101(a)(15)(F)(i) of the Immigration and Nationality Act (INA), 8 U.S.C. 1101(a)(15)(F)(i);

(3) Are enrolled in an academic institution that is Student and Exchange Visitor Program (SEVP)-certified for enrollment for F-1 nonimmigrant students;

(4) Are currently maintaining F-1 nonimmigrant status; and

(5) Are experiencing severe economic hardship as a direct result of the current armed conflict and humanitarian crisis in South Sudan.

This notice applies to F-1 nonimmigrant students in an approved private school in kindergarten through grade 12, public school grades 9 through 12, and undergraduate and graduate education. An F-1 nonimmigrant student covered by this notice who transfers to another SEVP-certified academic institution remains eligible for the relief provided by means of this notice.

Why is DHS taking this action?

DHS is taking action to provide relief to South Sudanese F-1 nonimmigrant students experiencing severe economic hardship due to the current armed conflict and humanitarian crisis in South Sudan. Based on its review of country conditions in South Sudan and input received from the U.S. Department of State (DOS), DHS is taking action to allow eligible F-1 nonimmigrant students from South Sudan to request employment authorization, work an increased number of hours while school is in session, and reduce their course load while continuing to maintain F-1 nonimmigrant student status.

Despite the 2022 extension of a peace agreement by various parties, South Sudan remains plagued by conflict both among non-signatories to the peace agreement and between groups that are ostensibly at peace with one another.² Violence linked to ongoing armed conflict has resulted in civilian casualties, a dire humanitarian situation, rampant disease, frequent gender-based violence, and food insecurity, made worse by disastrous floods. All of which continues to threaten the safety of potential returnees throughout the country.

² South Sudan Government Opposition Re-Commit Peace Deal, Reuters, Apr. 4, 2022, available at https://www.reuters.com/world/africa/south-sudan-government-opposition-re-commit-peace-deal-2022-04-04/#:~:text=At%20a%20signing%20ceremony%20on%20Sunday%20evening%20attended,a%20unified%20command%20structure%20in%20the%20next%20week (last visited June 15, 2023).

Armed Conflict

A principal driver of armed conflict in South Sudan has long been the rivalry between President Silva Kiir and First Vice President Riek Machar, as well as their various supporters and aligned armed groups.3 4 In spite of the 2018 peace agreement that established the current transitional government—and to which President Kiir and Vice President Machar were the main signatories—South Sudan frequently faces violent political contestations, and lacks a stable government, which has facilitated ongoing violence that is characterized by gross human rights violations that consistently target civilians and cause mass displacements in various parts of the country.⁵

³ Kiir leads the ruling Sudan People's Liberation Movement (SPLM). Machar is associated with the Sudan People's Liberation Movement—In Opposition (SPLM-IO) but contends that he has not formally left the SPLM. Infighting Brings New Split in South Sudan's Ruling Party, VOA News, Oct. 28, 2022, available at https://www.voanews.com/a/infighting-brings-new-split-in-south-sudan-s-ruling-party/6809882.html (last visited May 19, 2023).

⁴ South Sudan's Splintered Opposition: Preventing More Conflict, International Crisis Group, Feb. 25, 2022, available at https://www.crisisgroup.org/africa/horn-africa/south-sudan/south-sudans-splintered-opposition-preventing-more-conflict (last visited May 19, 2023).

⁵ U.N. Human Rights Council, Report of the Commission on Human Rights in South Sudan, 3, U.N. Doc. A/HRC/52/26 (Jan. 31, 2023), available at https://www.ohchr.org/sites/default/files/documents/hrbodies/hrcouncil/sessions-regular/session52/A-HRC-52-26-AdvanceEditedVersion.pdf (last visited July 20, 2023).

Multiple parties are responsible for committing crimes and abuses across South Sudan, such as security and opposition forces, non-signatories to the 2022 peace agreement, and civilians.⁶ Government forces have reportedly engaged in collective punishment of civilians perceived to be opposition supporters, an assumption often based on ethnicity.⁷ Delays in implementing security sector reform and demobilization of armed groups have contributed to security forces and ex-combatants exploiting local communities, emboldened by a climate of impunity.⁸ Members of government and opposition forces, associated armed militia groups, and ethnic groups have reportedly committed torture and other abuses in conflict zones.⁹ Additionally, parts of South Sudan also face simmering ethnic conflict that has resulted in dire humanitarian consequences, including significant displacement and human rights abuses, including those involving the killing of civilians, arbitrary arrests and unjust detentions, looting and destruction of civilian property, physical abuse, forced recruitment, and gender-based violence.¹⁰

⁶ U.S. Dep't. of State, 2022 Country Reports on Human Rights: South Sudan, 15 (Mar. 20, 2023), available at https://www.state.gov/reports/2022-country-reports-on-human-rights-practices/south-sudan/ (last visited July 20, 2023).

⁷ 2022 Country Reports on Human Rights: South Sudan, U.S. Dep't. of State, Mar. 20, 2023, available at https://www.state.gov/reports/2022-country-reports-on-human-rights-practices/south-sudan/ (last visited July 20, 2023).

⁸ Report of the Commission on Human Rights in South Sudan [A/HRC/52/26], UN Human Rights Council, Jan. 31, 2023, available at https://www.ohchr.org/sites/default/files/documents/hrbodies/hrcouncil/sessions-regular/session52/A-HRC-52-26-AdvanceEditedVersion.pdf. (last visited July 20, 2023).

⁹ 2022 Country Reports on Human Rights: South Sudan, U.S. Dep't. of State, Mar. 20, 2023, available at https://www.state.gov/reports/2022-country-reports-on-human-rights-practices/south-sudan/ (last visited July 20, 2023).

¹⁰ Id.

Gender-Based Violence and Violence Against Children

Armed conflict has had particularly dire consequences for women and children. Women and girls have faced increased cases of sexual violence and harassment, as well as risk of abductions, killings, and threats from armed forces.¹¹ Various parties use gender-based violence as a conflict tactic, including rape, gang rape, sexual slavery, and forced marriage.¹² Impunity for sexual and gender-based abuses has continued.¹³ Experts estimate that around 2.8 million people are at risk of gender-based violence in 2023, constituting a nine percent increase over the previous year.¹⁴ Children also remain at great risk of multiple types of abuse and victimization. The United Nations has documented many incidents of what the Special Representative of the Secretary-General for Children and Armed Conflict has identified as the six “grave violations” against children, including recruitment and use by armed groups; killing and maiming; rape and other forms of sexual violence; attacks on schools, hospitals, and protected persons in relation to schools and hospitals.¹⁵

¹¹ South Sudan Humanitarian Needs Overview 2023, UNOCHA, Nov. 22, 2022, available at https://reliefweb.int/report/south-sudan/south-sudan-humanitarian-needs-overview-2023-november-2022, (last visited May 19, 2023).

¹² 2022 Country Reports on Human Rights: South Sudan, U.S. Dep't. of State, Mar. 20, 2023, available at https://www.state.gov/reports/2022-country-reports-on-human-rights-practices/south-sudan/ (last visited July 20, 2023).

¹³ South Sudan Humanitarian Needs Overview 2023, UNOCHA, Nov. 22, 2022, available at https://reliefweb.int/report/south-sudan/south-sudan-humanitarian-needs-overview-2023-november-2022, (last visited May 19, 2023).

¹⁴ Final Report of the Panel of Experts on South Sudan, UN Security Council [S/2023/294], Apr. 26, 2023, available at https://reliefweb.int/report/south-sudan/final-report-panel-experts-south-sudan-submitted-pursuant-resolution-2633-2022-s2023294-enar, (last visited May 19, 2023).

¹⁵ Children and armed conflict in South Sudan, UN Security Council, Feb. 10, 2023, available at https://unmiss.unmissions.org/sites/default/files/sg_report_on_children_and_armed_conflict_in_south_sudan.pdf, (last visited May 17, 2023).

Humanitarian Assistance

As a result of violence and other conditions, an estimated 9.4 million of South Sudan's total population of more than 12 million people is in need of humanitarian assistance.¹⁶ Multiple factors complicate the provision of relief. Armed groups restrict the safe and effective delivery of assistance, in some cases even harassing or killing aid workers, engaging in looting, and destroying humanitarian assets and facilities.¹⁷ Bureaucratic obstacles and interference further undermine access.¹⁸ Additionally, flooding has prevented physical access to some locations.¹⁹

¹⁶ South Sudan—Complex Emergency Fact Sheet #3. Fiscal Year 2023, U.S. Agency for International Development (USAID), Mar. 31, 2023, available at https://reliefweb.int/report/south-sudan/south-sudan-complex-emergency-fact-sheet-3-fiscal-year-fy-2023 (last visited May 19, 2023).

¹⁷ 2022 Country Reports on Human Rights: South Sudan, U.S. Dep't. of State, Mar. 20, 2023, available at https://www.state.gov/reports/2022-country-reports-on-human-rights-practices/south-sudan/ (last visited July 20, 2023).

¹⁸ South Sudan Humanitarian Needs Overview 2023, UNOCHA, Nov. 22, 2022, available at https://reliefweb.int/report/south-sudan/south-sudan-humanitarian-needs-overview-2023-november-2022, (last visited May 19, 2023).

¹⁹ South Sudan Humanitarian Situation No. 2:1, UNICEF, Feb. 28, 2023, available at https://reliefweb.int/report/south-sudan/unicef-south-sudan-humanitarian-situation-report-no-2-1-28-february-2023, (last visited May 19, 2023).

Food Insecurity and Disease

Acute food insecurity, ongoing subnational violence, poor macroeconomic conditions, and severe flooding continue to drive growing humanitarian needs across South Sudan. Approximately 7.8 million South Sudanese were projected to face “Crisis” levels of acute food insecurity, or worse, between April and July 2023.²⁰ Within this population, 2.9 million people were projected to face “Emergency” levels of acute food security (a level four on the Integrated Food Security Phase Classification (IPC)), and around 43,000 were expected to face “Catastrophe” levels (a level five on the IPC).” ²¹ Disruption in the agricultural sector has led to a dramatic increase in food prices, thereby exacerbating food insecurity and intensifying poverty.²² Access to food is also sometimes used as a weapon of war.²³

²⁰ South Sudan—Complex Emergency Fact Sheet #3. Fiscal Year 2023, U.S. Agency for International Development (USAID), Mar. 31, 2023, available at https://reliefweb.int/report/south-sudan/south-sudan-complex-emergency-fact-sheet-3-fiscal-year-fy-2023 (last visited May 19, 2023). The “Crisis” level of food security is the third level on the five level Integrated Food Security Phase Classification (IPC) scale, which ranges from “Minimal” (IPC 1) to “Famine” or “Catastrophe” (IPC 5).

²¹ South Sudan—Complex Emergency Fact Sheet #3. Fiscal Year 2023, U.S. Agency for International Development (USAID), Mar. 31, 2023, available at https://reliefweb.int/report/south-sudan/south-sudan-complex-emergency-fact-sheet-3-fiscal-year-fy-2023 (last visited May 19, 2023).

²² South Sudan Humanitarian Needs Overview 2023, UNOCHA, Nov. 22, 2022, available at, https://reliefweb.int/report/south-sudan/south-sudan-humanitarian-needs-overview-2023-november-2022, (last visited May 19, 2023).

²³ 2022 Country Reports on Human Rights: South Sudan, U.S. Dep't. of State, Mar. 20, 2023, available at https://www.state.gov/reports/2022-country-reports-on-human-rights-practices/south-sudan/ (last visited July 20, 2023).

South Sudan is also contending with multiple disease outbreaks. Flood-affected areas have seen the spread of malaria, diarrhea, pneumonia, and skin infections, and the lack of clean water and sanitation suggests that outbreaks of cholera and Hepatitis E are likely to persist.²⁴ There also have been confirmed outbreaks of measles.²⁵ Dozens of health facilities were damaged or relocated due to flooding, further restricting access to care.²⁶

²⁴ South Sudan Humanitarian Needs Overview 2023, UNOCHA, Nov. 22, 2022, https://reliefweb.int/report/south-sudan/south-sudan-humanitarian-needs-overview-2023-november-2022, (last visited May 19, 2023).

²⁵ Id.

²⁶ Id.

Environmental Concerns

South Sudan has experienced above normal rainfall for four consecutive years.²⁷ The effects of rain and flooding are widespread, with the number of people impacted across South Sudan estimated to exceed one million.²⁸ Floods have destroyed crops, homes, schools, health care centers, and boreholes for water access, and efforts to provide relief have been stymied by violence, inaccessibility, and gaps in resources and infrastructure.²⁹

²⁷ Id.

²⁸ South Sudan: Flooding Situation Report No. 1, UNOCHA, Oct. 12, 2022, available at https://reliefweb.int/report/south-sudan/south-sudan-flooding-situation-report-no-1-31-october-2022, (last visited May 19, 2023).

²⁹ South Sudan: Flooding Situation Report No. 1, UNOCHA, Oct. 12, 2022, available at https://reliefweb.int/report/south-sudan/south-sudan-flooding-situation-report-no-1-31-october-2022, (last visited May 19, 2023).

As of August 8, 2023, approximately 130 F-1 nonimmigrant students from South Sudan are enrolled at SEVP-certified academic institutions in the United States. Given the extent of the current armed conflict and humanitarian crisis in South Sudan, affected students whose primary means of financial support comes from South Sudan may need to be exempt from the normal student employment requirements to continue their studies in the United States. The current armed conflict and humanitarian crisis has made it unfeasible for many students to safely return to South Sudan for the foreseeable future. Without employment authorization, these students may lack the means to meet basic living expenses.

What is the minimum course load requirement to maintain valid F-1 nonimmigrant status under this notice?

Undergraduate F-1 nonimmigrant students who receive on-campus or off-campus employment authorization under this notice must remain registered for a minimum of six semester or quarter hours of instruction per academic term. Undergraduate F-1 nonimmigrant students enrolled in a term of different duration must register for at least one half of the credit hours normally required under a “full course of study.” See 8 CFR 214.2(f)(6)(i)(B) and (F). A graduate-level F-1 nonimmigrant student who receives on-campus or off-campus employment authorization under this notice must remain registered for a minimum of three semester or quarter hours of instruction per academic term. See 8 CFR 214.2(f)(5)(v). Nothing in this notice affects the applicability of other minimum course load requirements set by the academic institution.

In addition, an F-1 nonimmigrant student (either undergraduate or graduate) granted on-campus or off-campus employment authorization under this notice may count up to the equivalent of one class or three credits per session, term, semester, trimester, or quarter of online or distance education toward satisfying this minimum course load requirement, unless their course of study is in an English language study program. See 8 CFR 214.2(f)(6)(i)(G). An F-1 nonimmigrant student attending an approved private school in kindergarten through grade 12 or public school in grades 9 through 12 must maintain “class attendance for not less than the minimum number of hours a week prescribed by the school for normal progress toward graduation,” as required under 8 CFR 214.2(f)(6)(i)(E). Nothing in this notice affects the applicability of federal and state labor laws limiting the employment of minors.

May an eligible F-1 nonimmigrant student who already has on-campus or off-campus employment authorization benefit from the suspension of regulatory requirements under this notice?

Yes. An F-1 nonimmigrant student who is a South Sudanese citizen, regardless of country of birth (or an individual having no nationality who last habitually resided in South Sudan), who already has on-campus or off-campus employment authorization and is otherwise eligible may benefit under this notice, which suspends certain regulatory requirements relating to the minimum course load requirement under 8 CFR 214.2(f)(6)(i) and certain employment eligibility requirements under 8 CFR 214.2(f)(9). Such an eligible F-1 nonimmigrant student may benefit without having to apply for a new Form I-766, Employment Authorization Document (EAD). To benefit from this notice, the F-1 nonimmigrant student must request that their designated school official (DSO) enter the following statement in the remarks field of the student's Student and Exchange Visitor Information System (SEVIS) record, which the student's Form I-20, Certificate of Eligibility for Nonimmigrant (F-1) Student Status, will reflect:

Approved for more than 20 hours per week of [DSO must insert “on-campus” or “off-campus,” depending upon the type of employment authorization the student already has] employment authorization and reduced course load under the Special Student Relief authorization from [DSO must insert the beginning date of the notice or the beginning date of the student's employment, whichever date is later] until [DSO must insert either the student's program end date, the current EAD expiration date (if the student is currently authorized for off-campus employment), or the end date of this notice, whichever date comes first].³⁰

³⁰ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 3, 2025, provided the student satisfies the minimum course load requirements in this notice.

Must the F-1 nonimmigrant student apply for reinstatement after expiration of this special employment authorization if the student reduces his or her “full course of study”?

No. DHS will deem an F-1 nonimmigrant student who receives and comports with the employment authorization permitted under this notice to be engaged in a “full course of study” ³¹ for the duration of the student's employment authorization, provided that a qualifying undergraduate level F-1 nonimmigrant student remains registered for a minimum of six semester or quarter hours of instruction per academic term, and a qualifying graduate level F-1 nonimmigrant student remains registered for a minimum of three semester or quarter hours of instruction per academic term. See 8 CFR 214.2(f)(5)(v) and (f)(6)(i)(F). Undergraduate F-1 nonimmigrant students enrolled in a term of different duration must register for at least one half of the credit hours normally required under a “full course of study.” See 8 CFR 214.2(f)(6)(i)(B) and (F). DHS will not require such students to apply for reinstatement under 8 CFR 214.2(f)(16) if they are otherwise maintaining F-1 nonimmigrant status.

³¹ See 8 CFR 214.2(f)(6).

Will an F-2 dependent (spouse or minor child) of an F-1 nonimmigrant student covered by this notice be eligible for employment authorization?

No. An F-2 spouse or minor child of an F-1 nonimmigrant student is not authorized to work in the United States and, therefore, may not accept employment under the F-2 nonimmigrant status, consistent with 8CFR 214.2(f)(15)(i).

Will the suspension of the applicability of the standard student employment requirements apply to an individual who receives an initial F-1 visa and makes an initial entry into the United States after the effective date of this notice in the Federal Register?

No. The suspension of the applicability of the standard regulatory requirements only applies to certain F-1 nonimmigrant students who meet the following conditions:

(1) Are a citizen of South Sudan regardless of country of birth (or an individual having no nationality who last habitually resided in South Sudan);

(2) Were lawfully present in the United States on the date of publication of this notice in F-1 nonimmigrant status, under section 101(a)(15)(F)(i) of the INA, 8 U.S.C. 1101(a)(15)(F)(i);

(3) Are enrolled in an academic institution that is SEVP-certified for enrollment of F-1 nonimmigrant students;

(4) Are maintaining F-1 nonimmigrant status; and

(5) Are experiencing severe economic hardship as a direct result of the current armed conflict and humanitarian crisis in South Sudan.

An F-1 nonimmigrant student who does not meet all these requirements is ineligible for the suspension of the applicability of the standard regulatory requirements (even if experiencing severe economic hardship as a direct result of the current armed conflict and humanitarian crisis in South Sudan).

Does this notice apply to a continuing F-1 nonimmigrant student who departs the United States after the effective date of this notice in the Federal Register and who needs to obtain a new F-1 visa before returning to the United States to continue an educational program?

Yes. This notice applies to such an F-1 nonimmigrant student, but only if the DSO has properly notated the student's SEVIS record, which will then appear on the student's Form I-20. The normal rules for visa issuance remain applicable to a nonimmigrant who needs to apply for a new F-1 visa to continue an educational program in the United States.

Does this notice apply to elementary school, middle school, and high school students in F-1 status?

Yes. However, this notice does not by itself reduce the required course load for F-1 nonimmigrant students from South Sudan enrolled in kindergarten through grade 12 at a private school, or grades 9 through 12 at a public high school. Such students must maintain the minimum number of hours of class attendance per week prescribed by the academic institution for normal progress toward graduation, as required under 8CFR214.2(f)(6)(i)(E). The suspension of certain regulatory requirements related to employment through this notice is applicable to all eligible F-1 nonimmigrant students regardless of educational level. Eligible F-1 nonimmigrant students from South Sudan enrolled in an elementary school, middle school, or high school may benefit from the suspension of the requirement in 8 CFR 214.2(f)(9)(i) that limits on-campus employment to 20 hours per week while school is in session.

On-Campus Employment Authorization

Will an F-1 nonimmigrant student who receives on-campus employment authorization under this notice be authorized to work more than 20 hours per week while school is in session?

Yes. For an F-1 nonimmigrant student covered in this notice, the Secretary is suspending the applicability of the requirement in 8 CFR 214.2(f)(9)(i) that limits an F-1 nonimmigrant student's on-campus employment to 20 hours per week while school is in session. An eligible F-1 nonimmigrant student has authorization to work more than 20 hours per week while school is in session if the DSO has entered the following statement in the remarks field of the student's SEVIS record, which will be reflected on the student's Form I-20:

Approved for more than 20 hours per week of on-campus employment and reduced course load, under the Special Student Relief authorization from [DSO must insert the beginning date of this notice or the beginning date of the student's employment, whichever date is later] until [DSO must insert the student's program end date or the end date of this notice, whichever date comes first].³²

³² Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 3, 2025, provided the student satisfies the minimum course load requirements in this notice.

To obtain on-campus employment authorization, the F-1 nonimmigrant student must demonstrate to the DSO that the employment is necessary to avoid severe economic hardship directly resulting from the current armed conflict and humanitarian crisis in South Sudan. An F-1 nonimmigrant student authorized by the DSO to engage in on-campus employment by means of this notice does not need to file any applications with U.S. Citizenship and Immigration Services (USCIS). The standard rules permitting full-time on-campus employment when school is not in session or during school vacations apply, as described in 8 CFR 214.2(f)(9)(i).

Will an F-1 nonimmigrant student who receives on-campus employment authorization under this notice have authorization to reduce the normal course load and still maintain his or her F-1 nonimmigrant student status?

Yes. DHS will deem an F-1 nonimmigrant student who receives on-campus employment authorization under this notice to be engaged in a “full course of study” ³³ for the purpose of maintaining their F-1 nonimmigrant student status for the duration of the on-campus employment, if the student satisfies the minimum course load requirement described in this notice, consistent with 8 CFR 214.2(f)(6)(i)(F). However, the authorization to reduce the normal course load is solely for DHS purposes of determining valid F-1 nonimmigrant student status. Nothing in this notice mandates that school officials allow an F-1 nonimmigrant student to take a reduced course load if the reduction would not meet the academic institution's minimum course load requirement for continued enrollment.³⁴

³³ See 8 CFR 214.2(f)(6).

³⁴ Minimum course load requirement for enrollment in a school must be established in a publicly available document (e.g., catalog, website, or operating procedure), and it must be a standard applicable to all students (U.S. citizens and foreign students) enrolled at the school.

Off-Campus Employment Authorization

What regulatory requirements does this notice temporarily suspend relating to off-campus employment?

For an F-1 nonimmigrant student covered by this notice, as provided under 8 CFR 214.2(f)(9)(ii)(A), the Secretary is suspending the following regulatory requirements relating to off-campus employment:

(a) The requirement that a student must have been in F-1 nonimmigrant student status for one full academic year to be eligible for off-campus employment;

(b) The requirement that an F-1 nonimmigrant student must demonstrate that acceptance of employment will not interfere with the student's carrying a full course of study;

(c) The requirement that limits an F-1 nonimmigrant student's employment authorization to no more than 20 hours per week of off-campus employment while the school is in session; and

(d) The requirement that the student demonstrate that employment under 8 CFR 214.2(f)(9)(i) is unavailable or otherwise insufficient to meet the needs that have arisen as a result of the unforeseen circumstances.

Will an F-1 nonimmigrant student who receives off-campus employment authorization under this notice have authorization to reduce the normal course load and still maintain F-1 nonimmigrant status?

Yes. DHS will deem an F-1 nonimmigrant student who receives off-campus employment authorization by means of this notice to be engaged in a “full course of study” ³⁵ for the purpose of maintaining F-1 nonimmigrant student status for the duration of the student's employment authorization if the student satisfies the minimum course load requirement described in this notice, consistent with 8 CFR 214.2(f)(6)(i)(F). However, the authorization for a reduced course load is solely for DHS purposes of determining valid F-1 nonimmigrant student status. Nothing in this notice mandates that school officials allow an F-1 nonimmigrant student to take a reduced course load if such reduced course load would not meet the school's minimum course load requirement.³⁶

³⁵ See 8 CFR 214.2(f)(6).

³⁶ Minimum course load requirement for enrollment in a school must be established in a publicly available document (e.g., catalog, website, or operating procedure), and it must be a standard applicable to all students (U.S. citizens and foreign students) enrolled at the school.

How may an eligible F-1 nonimmigrant student obtain employment authorization for off-campus employment with a reduced course load under this notice?

An F-1 nonimmigrant student must file a Form I-765, Application for Employment Authorization, with USCIS to apply for off-campus employment authorization based on severe economic hardship directly resulting from the current armed conflict and humanitarian crisis in South Sudan.³⁷ Filing instructions are located at https://www.uscis.gov/i-765.

³⁷ See 8 CFR 274a.12(c)(3)(iii).

Fee considerations. Submission of a Form I-765 currently requires payment of a $410 fee. An applicant who is unable to pay the fee may submit a completed Form I-912, Request for Fee Waiver, along with the Form I-765, Application for Employment Authorization. See https://www.uscis.gov/forms/filing-fees/additional-information-on-filing-a-fee-waiver. The submission must include an explanation about why USCIS should grant the fee waiver and the reason(s) for the inability to pay, and any evidence to support the reason(s). See 8 CFR 103.7(c) (Oct. 1, 2020).

Supporting documentation. An F-1 nonimmigrant student seeking off-campus employment authorization due to severe economic hardship must demonstrate the following to their DSO:

(1) This employment is necessary to avoid severe economic hardship; and

(2) The hardship is a direct result of the current armed conflict and humanitarian crisis in South Sudan.

If the DSO agrees that the F-1 nonimmigrant student is entitled to receive such employment authorization, the DSO must recommend application approval to USCIS by entering the following statement in the remarks field of the student's SEVIS record, which will then appear on that student's Form I-20:

Recommended for off-campus employment authorization in excess of 20 hours per week and reduced course load under the Special Student Relief authorization from the date of the USCIS authorization noted on Form I-766 until [DSO must insert the program end date or the end date of this notice, whichever date comes first].³⁸

³⁸ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 3, 2025, provided the student satisfies the minimum course load requirements in this notice.

The F-1 nonimmigrant student must then file the properly endorsed Form I-20 and Form I-765 according to the instructions for the Form I-765. The F-1 nonimmigrant student may begin working off campus only upon receipt of the EAD from USCIS.

DSO recommendation. In making a recommendation that an F-1 nonimmigrant student be approved for Special Student Relief, the DSO certifies that:

(a) The F-1 nonimmigrant student is in good academic standing and is carrying a “full course of study” ³⁹ at the time of the request for employment authorization;

³⁹ See 8 CFR 214.2(f)(6).

(b) The F-1 nonimmigrant student is a citizen of South Sudan, regardless of country of birth (or an individual having no nationality who last habitually resided in South Sudan), and is experiencing severe economic hardship as a direct result of the current armed conflict and humanitarian crisis in South Sudan, as documented on the Form I-20;

(c) The F-1 nonimmigrant student has confirmed that the student will comply with the reduced course load requirements of this notice and register for the duration of the authorized employment for a minimum of six semester or quarter hours of instruction per academic term if at the undergraduate level, or for a minimum of three semester or quarter hours of instruction per academic term if the student is at the graduate level; ⁴⁰ and

⁴⁰ 8 CFR 214.2(f)(5)(v).

(d) The off-campus employment is necessary to alleviate severe economic hardship to the individual as a direct result of the current armed conflict and humanitarian crisis in South Sudan.

Processing. To facilitate prompt adjudication of the student's application for off-campus employment authorization under 8 CFR 214.2(f)(9)(ii)(C), the F-1 nonimmigrant student should do both of the following:

(a) Ensure that the application package includes the following documents:

(1) A completed Form I-765 with all applicable supporting evidence;

(2) The required fee or properly documented fee waiver request as defined in 8 CFR 103.7(c) (Oct. 1, 2020); and

(3) A signed and dated copy of the student's Form I-20 with the appropriate DSO recommendation, as previously described in this notice; and

(b) Send the application in an envelope which is clearly marked on the front of the envelope, bottom right-hand side, with the phrase “SPECIAL STUDENT RELIEF.” ⁴¹ Failure to include this notation may result in significant processing delays.

⁴¹ Guidance for direct filing addresses can be found here: https://www.uscis.gov/i-765-addresses.

If USCIS approves the student's Form I-765, USCIS will send the student a Form I-766 EAD as evidence of employment authorization. The EAD will contain an expiration date that does not exceed the end of the granted temporary relief.

Temporary Protected Status (TPS) Considerations

Can an F-1 nonimmigrant student apply for TPS and for benefits under this notice at the same time?

Yes. An F-1 nonimmigrant student who has not yet applied for TPS or for other relief that reduces the student's course load per term and permits an increased number of work hours per week, such as Special Student Relief,⁴² under this notice has two options.

⁴² See DHS Study in the States, Special Student Relief, https://studyinthestates.dhs.gov/students/special-student-relief (last visited May 10, 2023).

Under the first option, the F-1 nonimmigrant student may apply for TPS according to the instructions in the USCIS notice designating South Sudan for TPS elsewhere in this issue of the Federal Register. All TPS applicants must file a Form I-821, Application for Temporary Protected Status, with the appropriate fee (or request a fee waiver). Although not required to do so, if F-1 nonimmigrant students want to obtain a new TPS-related EAD that is valid through May 3, 2025, and to be eligible for automatic EAD extensions that may be available to certain EADs with an A-12 or C-19 category code, they must file Form I-765 and pay the Form I-765 fee (or request a fee waiver). After receiving the TPS-related EAD, an F-1 nonimmigrant student may request that their DSO make the required entry in SEVIS and issue an updated Form I-20, which notates that the nonimmigrant student has been authorized to carry a reduced course load, as described in this notice. As long as the F-1 nonimmigrant student maintains the minimum course load described in this notice, does not otherwise violate their nonimmigrant status, including as provided under 8 CFR 214.1(g), and maintains TPS, then the student maintains F-1 status and TPS concurrently.

Under the second option, the F-1 nonimmigrant student may apply for an EAD under Special Student Relief by filing Form I-765 with the location specified in the filing instructions. At the same time, the F-1 nonimmigrant student may file a separate TPS application but must submit the Form I-821 according to the instructions provided in the Federal Register notice designating South Sudan for TPS. If the F-1 nonimmigrant student has already applied for employment authorization under Special Student Relief, they are not required to submit the Form I-765 as part of the TPS application. However, some nonimmigrant students may wish to obtain a TPS-related EAD in light of certain extensions that may be available to EADs with an A-12 or C-19 category code that are not available to the C-3 category under which Special Student Relief falls. The F-1 nonimmigrant student should check the appropriate box when filling out Form I-821 to indicate whether a TPS-related EAD is being requested. Again, so long as the F-1 nonimmigrant student maintains the minimum course load described in this notice and does not otherwise violate the student's nonimmigrant status, included as provided under 8 CFR 214.1(g), the nonimmigrant will be able to maintain compliance requirements for F-1 nonimmigrant student status while having TPS.

When a student applies simultaneously for TPS and benefits under this notice, what is the minimum course load requirement while an application for employment authorization is pending?

The F-1 nonimmigrant student must maintain normal course load requirements for a “full course of study” ⁴³ unless or until the nonimmigrant student receives employment authorization under this notice. TPS-related employment authorization, by itself, does not authorize a nonimmigrant student to drop below twelve credit hours, or otherwise applicable minimum requirements (e.g., clock hours for non-traditional academic programs). Once approved for a TPS-related EAD and Special Student Relief employment authorization, as indicated by the DSO's required entry in SEVIS and issuance of an updated Form I-20, the F-1 nonimmigrant student may drop below twelve credit hours, or otherwise applicable minimum requirements (with a minimum of six semester or quarter hours of instruction per academic term if at the undergraduate level, or for a minimum of three semester or quarter hours of instruction per academic term if at the graduate level). See 8 CFR 214.2(f)(5)(v), (f)(6), and (f)(9)(i) and (ii).

⁴³ See 8 CFR 214.2(f)(6).

How does a student who has received a TPS-related EAD then apply for authorization to take a reduced course load under this notice?

There is no further application process with USCIS if a student has been approved for a TPS-related EAD. The F-1 nonimmigrant student must demonstrate and provide documentation to the DSO of the direct economic hardship resulting from the current armed conflict and humanitarian crisis in South Sudan. The DSO will then verify and update the student's record in SEVIS to enable the F-1 nonimmigrant student with TPS to reduce the course load without any further action or application. No other EAD needs to be issued for the F-1 nonimmigrant student to have employment authorization.

Can a noncitizen who has been granted TPS apply for reinstatement of F-1 nonimmigrant student status after the noncitizen's F-1 nonimmigrant student status has lapsed?

Yes. Regulations permit certain students who fall out of F-1 nonimmigrant student status to apply for reinstatement. See 8 CFR 214.2(f)(16). This provision may apply to students who worked on a TPS-related EAD or dropped their course load before publication of this notice, and therefore fell out of student status. These students must satisfy the criteria set forth in the F-1 nonimmigrant student status reinstatement regulations.

How long will this notice remain in effect?

This notice grants temporary relief until May 3, 2025,⁴⁴ to eligible F-1 nonimmigrant students. DHS will continue to monitor the situation in South Sudan. Should the special provisions authorized by this notice need modification or extension, DHS will announce such changes in the Federal Register.

⁴⁴ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 3, 2025, provided the student satisfies the minimum course load requirements in this notice.

Paperwork Reduction Act (PRA)

An F-1 nonimmigrant student seeking off-campus employment authorization due to severe economic hardship resulting from the current armed conflict and humanitarian crisis in South Sudan must demonstrate to the DSO that this employment is necessary to avoid severe economic hardship. A DSO who agrees that a nonimmigrant student should receive such employment authorization must recommend an application approval to USCIS by entering information in the remarks field of the student's SEVIS record. The authority to collect this information is in the SEVIS collection of information currently approved by the Office of Management and Budget (OMB) under OMB Control Number 1653-0038.

This notice also allows an eligible F-1 nonimmigrant student to request employment authorization, work an increased number of hours while the academic institution is in session, and reduce their course load while continuing to maintain F-1 nonimmigrant student status.

To apply for employment authorization, certain F-1 nonimmigrant students must complete and submit a currently approved Form I-765 according to the instructions on the form. OMB has previously approved the collection of information contained on the current Form I-765, consistent with the PRA (OMB Control No. 1615-0040). Although there will be a slight increase in the number of Form I-765 filings because of this notice, the number of filings currently contained in the OMB annual inventory for Form I-765 is sufficient to cover the additional filings. Accordingly, there is no further action required under the PRA.

Alejandro Mayorkas,
Secretary, U.S. Department of Homeland Security.

[FR Doc. 2023-19320 Filed 9-5-23; 8:45 am]

BILLING CODE 9111-28-P